SECURITIES AND EXCHANGE COMMISSION

17 CFR Part 200

[Release Nos. 34-49973, IC-26493]

Delegations of Authority to the Director of the Division of Market Regulation, the Director of the Division of Investment Management and the Director of the Office of Compliance Inspections and Examinations

AGENCY: Securities and Exchange Commission.

ACTION: Final rule.

SUMMARY: The Securities and Exchange Commission (“Commission”) is amending its rules to delegate authority to the Director of the Division of Market Regulation and the Director of the Division of Investment Management to consult, and, where applicable, to the Director of the Office of Compliance Inspections and Examinations to notify and consult on behalf of the Commission pursuant to section 18(t)(1) of the Federal Deposit Insurance Act, sections 5318A(a)(4), 5318A(e)(2), and 5318(h)(2) of the Bank Secrecy Act, and the provisions of the Uniting and Strengthening America by Providing Appropriate Tools Required to Intercept and Obstruct Terrorism Act of 2001 requiring consultation with the Commission. The Commission is further amending its rules to delegate authority to the Director of the Office of Compliance Inspections and Examinations to notify and consult on behalf of the Commission pursuant to section 17(b)(1)(B) of the Securities Exchange Act of 1934.

DATES: Effective Date: July 13, 2004.

FOR FURTHER INFORMATION CONTACT: For information regarding the delegation of authority to the Director of the Division of Market Regulation, contact Brian Bussey, Assistant Chief Counsel, or David Blass, Attorney, at (202) 942-0073, Office of Chief Counsel, Division of Market Regulation, Securities and Exchange Commission, 450 Fifth Street, NW., Washington, DC 20549-1001. For information regarding the delegation of authority to the Director of the Division of Investment Management, contact Hunter Jones, Associate Director, or Robert Kim, Attorney, at (202) 942-0690, Office of Regulatory Policy, Division of Investment Management, Securities and Exchange Commission, 450 Fifth Street, NW., Washington, DC 20549-0506. For information regarding the delegation of authority to the Director of the Office of Compliance Inspections and Examinations, contact John Walsh, Chief Counsel, at (202) 942-7400, Office of the Chief Counsel, Office of Compliance Inspections and Examinations, 901 E Street, NW., Washington, DC 20549-0001.

SUPPLEMENTARY INFORMATION: Section 18(t)(1) of the Federal Deposit Insurance Act,¹ sections 5318A(a)(4), 5318A(e)(2) and 5318(h)(2) of the Bank Secrecy Act ² (“Bank Secrecy Act”), and the Uniting and Strengthening America by Providing Appropriate Tools Required to Intercept and Obstruct Terrorism Act of 2001³ (the “USA PATRIOT Act”) require consultation between the Commission and various other agencies of the Federal government. Section 17(b)(1)(B) of the Securities Exchange Act of 1934⁴ (“Exchange Act”) requires the Commission to give notice and deliver other information to the Commodity Futures Trading Commission.

¹ 12 U.S.C. 1828(t)(1).

² Pub. L. 91-508, as amended, codified at 12 U.S.C. 1829b, 12 U.S.C. 1951-1959, and 31 U.S.C. 5311-5314; 5316-5332.

³ Pub. L. 107-56 (2001), 115 Stat. 272.

⁴ 15 U.S.C. 78q(b)(1)(B) (as added by section 204 of the Commodity Futures Modernization Act of 2000, Pub. L. 106-554 (2000)).

The Commission is adopting amendments to Rule 30-3 ⁵ of its Rules of Organization and Program Management governing delegations of authority to the Director of the Division of Market Regulation, Rule 30-5 ⁶ governing delegations of authority to the Director of the Division of Investment Management, and Rule 30-18 ⁷ governing delegations of authority to the Director of the Office of Compliance Inspections and Examinations.

⁵ 17 CFR 200.30-3.

⁶ 17 CFR 200.30-5.

⁷ 17 CFR 200.30-18.

The Commission is amending Rule 30-3 to redesignate paragraph (g) as paragraph (j), and add new paragraphs (g), (h) and (i) to authorize the Director of the Division of Market Regulation to consult on behalf of the Commission with other agencies of the Federal government pursuant to section 18(t)(1) of the Federal Deposit Insurance Act, sections 5318A(a)(4), 5318A(e)(2) and 5318(h)(2) of the Bank Secrecy Act, and provisions of the USA PATRIOT Act requiring consultation with the Commission, with respect to matters that relate to the responsibilities of the Director of the Division of Market Regulation described in 17 CFR 200.19a.⁸ The Commission is amending Rule 30-5 to redesignate paragraphs (g), (h), (i), (j) and (k) as paragraphs (i), (j), (k), (l) and (m), and add new paragraphs (g) and (h) to authorize the Director of the Division of Investment Management to consult on behalf of the Commission with other agencies of the Federal government pursuant to sections 5318A(a)(4), 5318A(e)(2) and 5318(h)(2) of the Bank Secrecy Act and provisions of the USA PATRIOT Act requiring consultation with the Commission, with respect to matters that relate to the responsibilities of the Director of the Division of Investment Management described in 17 CFR 200.20b. The Commission is also amending paragraph (c) of Rule 30-18 to authorize the Director of the Office of Compliance Inspections and Examinations to notify and consult with the Commodity Futures Trading Commission pursuant to section 17(b)(1)(B) of the Exchange Act.

⁸ Pursuant to Rules 30-3(a)(75) and 30-3(a)(76), the Commission has delegated to the Director of the Division of Market Regulation the authority to publish notices of proposed rule changes filed pursuant to section 19(b)(7) of the Exchange Act relating to security futures products and to abrogate such proposed rule changes. That delegation includes the authority to consult on behalf of the Commission with the Commodity Futures Trading Commission on matters arising under section 19(b)(7) of the Exchange Act with regard to abrogating proposed rule changes.

This delegation of authority is intended to conserve Commission resources by permitting the Director of the Division of Market Regulation, the Director of the Division of Investment Management and the Director of the Office of Compliance Inspections and Examinations to fulfill the Commission's consultation and notice provision requirements. Nevertheless, the staff may submit matters to the Commission for consideration, as it deems appropriate.

The Commission finds, in accordance with section 553(b)(3)(A) of the Administrative Procedures Act,⁹ that these amendments relate solely to agency organization, procedure or practice, and do not relate to a substantive rule. Accordingly, notice, opportunity for public comment and publication of the amendment prior to its effective date are unnecessary. Similarly, the requirements of the Regulatory Flexibility Act ¹⁰ do not apply.

⁹ 5 U.S.C. 553(b)(3)(A).

¹⁰ 5 U.S.C. 601 et seq.

List of Subjects in 17 CFR Part 200

Administrative practice and procedure, Authority delegations (Government agencies), Organization and functions (Government agencies).

Text of Amendment

In accordance with the preamble, the Commission hereby amends Title 17, Chapter II of the Code of Federal Regulations as follows:

PART 200—ORGANIZATION; CONDUCT AND ETHICS; AND INFORMATION AND REQUESTS

Subpart A—Organization and Program Management

1. The authority citation for Part 200, subpart A, continues to read, in part, as follows:

Authority: 15 U.S.C. 77s, 77o, 77sss, 78d, 78d-1, 78d-2, 78w, 78ll(d), 78mm, 79t, 80a-37, 80b-11, and 7202, unless otherwise noted.

* * * * *

2. Section 200.30-3 is amended by redesignating current paragraph (g) as paragraph (j), adding new paragraph (g) and adding paragraphs (h) and (i) to read as follows:

§ 200.30-3 Delegation of authority to Director of Division of Market Regulation.

* * * * *

(g) To consult on behalf of the Commission pursuant to section 18(t)(1) of the Federal Deposit Insurance Act (12 U.S.C. 1828(t)(1)) with respect to matters described in § 200.19a.

(h) To consult on behalf of the Commission pursuant to sections 5318A(a)(4), 5318A(e)(2) and 5318(h)(2) of the Bank Secrecy Act (31 U.S.C. 5318A(a)(4), 5318A(e)(2) and 5318(h)(2)) with respect to matters described in § 200.19a.

(i) To consult on behalf of the Commission pursuant to the Uniting and Strengthening America by Providing Appropriate Tools Required to Intercept and Obstruct Terrorism Act of 2001 (USA PATRIOT Act), as amended (Pub. L. 107-56 (2001), 115 Stat. 272) with respect to matters described in § 200.19a.

* * * * *

3. Section 200.30-5 is amended by redesignating current paragraphs (g), (h), (i), (j) and (k) as paragraphs (i), (j), (k), (l) and (m) respectively, and adding new paragraphs (g) and (h) to read as follows:

§ 200.30-5 Delegation of authority to Director of Division of Investment Management.

* * * * *

(g) To consult on behalf of the Commission pursuant to sections 5318A(a)(4), 5318A(e)(2) and 5318(h)(2) of the Bank Secrecy Act (31 U.S.C. 5318A(a)(4), 5318A(e)(2) and 5318(h)(2)) with respect to matters described in § 200.20b.

(h) To consult on behalf of the Commission pursuant to the Uniting and Strengthening America by Providing Appropriate Tools Required to Intercept and Obstruct Terrorism Act of 2001 (USA PATRIOT Act), as amended (Pub. L. 107-56 (2001), 115 Stat. 272) with respect to matters described in § 200.20b.

* * * * *

4. Section 200.30-18 is amended by redesignating the text of paragraph (c) as paragraph (c)(1) and adding paragraph (c)(2) to read as follows:

§ 200.30-18 Delegation of authority to Director of the Office of Compliance Inspections and Examinations.

* * * * *

(c) * * *

(2) Pursuant to section 17(b)(1)(B) of the Exchange Act (15 U.S.C. 78q(b)(1)(B)), prior to any examination of a broker or dealer registered pursuant to section 6(g) of the Exchange Act (15 U.S.C. 78f(g)) or a national securities association registered pursuant to section 15A(k) of the Exchange Act (15 U.S.C. 78o-3(k)), to notify and consult with the Commodity Futures Trading Commission regarding the feasibility and desirability of coordinating such examination with examinations conducted by the Commodity Futures Trading Commission in order to avoid unnecessary regulatory duplication or undue regulatory burdens.

* * * * *

Dated: July 7, 2004.
By the Commission.
Margaret H. McFarland,
Deputy Secretary.

[FR Doc. 04-15782 Filed 7-12-04; 8:45 am]

BILLING CODE 8010-01-P